DEPARTMENT OF TRANSPORTATION

Federal Aviation Administration

14 CFR Part 39

[Docket No. FAA-2007-27212; Directorate Identifier 2007-CE-011-AD; Amendment 39-15121; AD 2007-13-17]

RIN 2120-AA64

Airworthiness Directives; Air Tractor, Inc. Models AT-602, AT-802, and AT-802A Airplanes

AGENCY: Federal Aviation Administration (FAA), DOT.

ACTION: Final rule.

SUMMARY: We are adopting a new airworthiness directive (AD) that supersedes AD 2006-22-08, which applies to all Air Tractor, Inc. (Air Tractor) Models AT-602, AT-802, and AT-802A airplanes. AD 2006-22-08 currently requires you to repetitively inspect the engine mount for any cracks, repair or replace any cracked engine mount, and report any cracks found to the FAA. Since we issued AD 2006-22-08, the FAA has received reports of two Model AT-802A airplanes with cracked engine mounts below the initial compliance time in AD 2006-22-08. The FAA has determined that an initial inspection is required when the airplane reaches a total of 1,300 hours time-in-service (TIS) instead of 4,000 hours TIS required by AD 2006-22-08. Consequently, this AD retains the actions of AD 2006-22-08 while requiring the initial inspection when the airplane reaches a total of 1,300 hours TIS. We are issuing this AD to detect and correct cracks in the engine mount, which could result in failure of the engine mount. Such failure could lead to separation of the engine from the airplane.

DATES: This AD becomes effective on August 10, 2007.

On August 10, 2007, the Director of the Federal Register approved the incorporation by reference of certain publications listed in this AD.

ADDRESSES: To get the service information identified in this AD, contact Air Tractor, Inc., P.O. Box 485, Olney, Texas 76374; telephone: (940) 564-5616; facsimile: (940) 564-5612.

To view the AD docket, go to U.S. Department of Transportation, Docket Operations, M-30, West Building Ground Floor, Room W12-140, 1200 New Jersey Avenue, SE., Washington, DC 20590, or on the Internet at http://dms.dot.gov. The docket number is FAA-2007-27212; Directorate Identifier 2007-CE-011-AD.

FOR FURTHER INFORMATION CONTACT: Andrew McAnaul, Aerospace Engineer, ASW-150 (c/o MIDO-43), 10100 Reunion Place, Suite 650, San Antonio, Texas 78216; telephone: (210) 308-3365; facsimile: (210) 308-3370.

SUPPLEMENTARY INFORMATION:

Discussion

On March 8, 2007, we issued a proposal to amend part 39 of the Federal Aviation Regulations (14 CFR part 39) to include an AD that would apply to all Air Tractor Models AT-602, AT-802, and AT-802A airplanes. This proposal was published in the Federal Register as a notice of proposed rulemaking (NPRM) on March 15, 2007 (72 FR 12131). The NPRM proposed to retain the actions of AD 2006-22-08 while requiring the initial inspection at 1,300 hours TIS.

Comments

We provided the public the opportunity to participate in developing this AD. The following presents the comments received on the proposal and FAA's response to each comment:

Comment Issue No. 1: Installation of a Welded Gusset Is Terminating Action for the Proposed Inspections

Leland Snow, President of Air Tractor, Inc., believes that Snow Engineering Co. Report Number 1727, Revision A, dated April 12, 2007 (referred to after this as Report 1727), justifies terminating action for the proposed inspections. Mr. Snow states that installation of a welded gusset following Snow Engineering Co. Service Letter #253, dated December 12, 2005, revised January 22, 2007, would eliminate the need for such inspections.

Based on the information presented in Report 1727, the FAA finds that the installation of the welded gusset does not fully address the unsafe condition and cannot be considered as a terminating action for the repetitive inspection.

We are making no changes to the final rule AD action based on this comment.

Comment Issue No. 2: FAA Has Overstated the Consequences of Cracks in the Engine Mount

Mr. Snow also states that the FAA overstates the events that would occur should cracks found in service result in the engine mount tube separating from the engine mount ring. He also states that the engine mount ring would remain attached to the remaining tube connections and prevent the engine from separating from the airplane.

The commenter did not provide any analysis or data to show that this situation would not occur. Based on the FAA's evaluation of the unsafe condition, we believe there is potential for the engine mount tube to separate from the engine mount ring.

Without the data to show that the engine mount ring would remain attached to the remaining tube connections, the FAA cannot change the potential end result condition of the engine separating from the airplane.

We are not changing the final rule AD action as a result of these comments.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 368 airplanes in the U.S. registry.

We estimate the following costs to do each required inspection:

Labor cost | Parts cost | Total cost per airplane per inspection | Total cost on U.S. operators for initial inspection
1.5 work-hours × $80 per hour = $120 | Not Applicable | $120 | $44,160

We have no way of determining the number of airplanes that may need replacement of the engine mount. We estimate the following costs to do the replacement:

Labor cost | Parts cost | Total cost per airplane per replacement
81 work-hours × $80 per hour = $6,480 | $3,982 | $10,462

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-27212; Directorate Identifier 2007-CE-011-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-22-08, Amendment 39-14805 (71 FR 62910, October 27, 2006), and adding the following new AD:

2007-13-17 Air Tractor, Inc.: Amendment 39-15121; Docket No. FAA-2007-27212; Directorate Identifier 2007-CE-011-AD.

Effective Date

(a) This AD becomes effective on August 10, 2007.

Affected ADs

(b) This AD supersedes AD 2006-22-08, Amendment 39-14805.

Applicability

(c) This AD affects all Models AT-602, AT-802, and AT-802A airplanes, all serial numbers, that are certificated in any category.

Unsafe Condition

(d) This AD results from reports of two Model AT-802A airplanes with cracked engine mounts (at 2,815 hours time-in-service (TIS) and 1,900 hours TIS) below the initial compliance time in AD 2006-22-08. The FAA has determined that an initial inspection when the airplane reaches a total of 1,300 hours TIS is required instead of 4,000 hours TIS as required by AD 2006-22-08. We are issuing this AD to detect and correct cracks in the engine mount, which could result in failure of the engine mount. Such failure could lead to separation of the engine from the airplane.

Compliance

(e) To address this problem, you must do the following, unless already done:

Actions | Compliance | Procedures
(1) Visually inspect the engine mount for any cracks. | Initially inspect when the airplane reaches a total of 1,300 hours TIS or within the next 100 hours TIS after August 10, 2007 (the effective date of this AD), whichever occurs later, unless already done. Thereafter, inspect repetitively at intervals not to exceed 300 hours TIS. | Follow Snow Engineering Co. Service Letter #253, dated December 12, 2005, revised January 22, 2007.
(2) If you find any crack damage, do the following: (i) Obtain an FAA-approved repair scheme or replacement procedure from the manufacturer; and (ii) Repair following the FAA-approved repair scheme or replace the engine mount with a new engine mount following the replacement procedure. | Before further flight after any inspection required by paragraph (e)(1) of this AD where crack damage is found. If you repair the cracked engine mount, then continue to reinspect at intervals not to exceed 300 hours TIS, unless the repair scheme states differently. If you replace the engine mount, then initially inspect upon accumulating 1,300 hours TIS and repetitively at intervals not to exceed 300 hours TIS. | For obtaining a repair scheme or replacement procedure: Contact Air Tractor Inc., P.O. Box 485, Olney, Texas 76374; telephone: (940) 564-5616; facsimile: (940) 564-5612.
(3) Report any cracks that you find to the FAA at the address specified in paragraph (f) of this AD. Include in your report: (i) Airplane serial number; (ii) Airplane hours TIS and engine mount hours TIS; (iii) Crack location(s) and size(s); (iv) Corrective action taken; and (v) Point of contact name and telephone number. | Within the next 30 days after you find the cracks or within the next 30 days after August 10, 2007 (the effective date of this AD), whichever occurs later. | The Office of Management and Budget (OMB) approved the information collection requirements contained in this regulation under the provisions of the Paperwork Reduction Act of 1980 (44 U.S.C. 3501 et seq.) and assigned OMB Control Number 2120-0056.

Alternative Methods of Compliance (AMOCs)

(f) The Manager, Fort Worth Airplane Certification Office, FAA, has the authority to approve AMOCs for this AD, if requested using the procedures found in 14 CFR 39.19. Send information to ATTN: Andrew McAnaul, Aerospace Engineer, ASW-150 (c/o MIDO-43), 10100 Reunion Place, Suite 650, San Antonio, Texas 78216; telephone: (210) 308-3365; facsimile: (210) 308-3370. Before using any approved AMOC on any airplane to which the AMOC applies, notify your appropriate principal inspector (PI) in the FAA Flight Standards District Office (FSDO), or lacking a PI, your local FSDO.

(g) AMOCs approved for AD 2006-22-08 are not approved for this AD.

Related Information

(h) To get copies of the service information referenced in this AD, contact Air Tractor Inc., P.O. Box 485, Olney, Texas 76374; telephone: (940) 564-5616; facsimile: (940) 564-5612. To view the AD docket, go to U.S. Department of Transportation, Docket Operations, M-30, West Building Ground Floor, Room W12-140, 1200 New Jersey Avenue, SE., Washington, DC 20590, or on the Internet at http://dms.dot.gov. The docket number is Docket No. FAA-2007-27212; Directorate Identifier 2007-CE-011-AD.

Material Incorporated by Reference

(i) You must use Snow Engineering Co. Service Letter #253, dated December 12, 2005, revised January 22, 2007, to do the actions required by this AD, unless the AD specifies otherwise.

(1) The Director of the Federal Register approved the incorporation by reference of this service information under 5 U.S.C. 552(a) and 1 CFR part 51.

(2) For service information identified in this AD, contact Air Tractor Inc., P.O. Box 485, Olney, Texas 76374; telephone: (940) 564-5616; facsimile: (940) 564-5612.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on June 22, 2007.
Kim Smith,
Manager, Small Airplane Directorate, Aircraft Certification Service.

[FR Doc. E7-12627 Filed 7-5-07; 8:45 am]

BILLING CODE 4910-13-P